FEDERAL COMMUNICATIONS COMMISSION

Notice of Public Information Collection(s) Being Reviewed by the Federal Communications Commission for Extension Under Delegated Authority, Comments Requested

March 29, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments June 4, 2002. If you anticipate that you will be submitting comments, but find it difficult to do so within the period of time allowed by this notice, you should advise the contact listed below as soon as possible.

ADDRESSES: Direct all comments to Judy Boley Herman, Federal Communications Commission, 445 12th Street, SW, Room 1-C804, Washington, DC 20554 or via the internet to jbherman@fcc.gov.

FOR FURTHER INFORMATION CONTACT: For additional information or copies of the information collections contact Judy Boley Herman at 202-418-0214 or via the internet at jbherman@fcc.gov.

SUPPLEMENTARY INFORMATION: OMB Control No.: 3060-0891.

Title: Certificate of Completion of Construction for an Instructional Television Fixed Service Station.

Form No.: FCC Form 330-A.

Type of Review: Extension of a currently approved collection.

Respondents: Not-for-profit institutions, state, local or tribal government.

Number of Respondents: 65.

Estimated Time Per Response: 0.5 hours.

Total Annual Burden: 33 hours.

Annual Reporting and Recordkeeping Cost Burden: $0.

Frequency of Response: On occasion reporting requirement.

Needs and Uses: FCC Form 330-A is used to certify that the facilities as authorized in the FCC Forms 330 and 331 have been completed and that the station is now operational, ready to provide service to the public. The license shall be subject to forfeit upon the expiration of the construction period specified in the license unless the licensee files with the Commission a FCC Form 330-A within five days after that date.

OMB Control No.: 3060-0368.

Title: Section 97.523, Question Pools.

Form No.: N/A.

Type of Review: Extension of a currently approved collection.

Respondents: Individuals or households.

Number of Respondents: 3.

Estimated Time Per Response: 96 hours.

Total Annual Burden: 288 hours.

Annual Reporting and Recordkeeping Cost Burden: $0.

Frequency of Response: Recordkeeping requirement.

Needs and Uses: The recordkeeping requirement contained in 47 CFR 97.523 is necessary to permit question pools used in preparing amateur examinations to be maintained by Volunteer-Examiner Coordinators (VEC's). These question pools must be published and made available to the public before the questions are used in an examination.

OMB Control No.: 3060-0325.

Title: Section 80.605, U.S. Coast Guard Coordination.

Form No.: N/A.

Type of Review: Extension of a currently approved collection.

Respondents: Individuals or households, business or other for-profit.

Number of Respondents: 47.

Estimated Time Per Response: 1.1 hours.

Total Annual Burden: 52 hours.

Annual Reporting and Recordkeeping Cost Burden: $0.

Frequency of Response: On occasion reporting requirement.

Needs and Uses: Section 80.605 is needed to insure that no hazard to marine navigation will result from the grant of applications for non-selectable transponders and shore based radionavigation aids. If this collection was not conducted, stations posing a hazard to marine navigation could be licensed inadvertently and/or long delays in the processing of applications could result due to the necessity for coordination between the FCC, the U.S. Coast Guard and the applicant.

OMB Control No.: 3060-0204.

Title: Section 90.20(a)(2)(v), Physically Handicapped “Special Eligibility Showing”.

Form No.: N/A.

Type of Review: Extension of a currently approved collection.

Respondents: Individuals or households.

Number of Respondents: 20.

Estimated Time Per Response: .084 hours.

Total Annual Burden: 1 hour.

Annual Reporting and Recordkeeping Cost Burden: $1,074.

Frequency of Response: On occasion reporting requirement.

Needs and Uses: This rule section requires application for Special Emergency Road Service frequencies that are reserved for handicapped individuals to be accompanied by a physician's statement attesting to the applicant's handicap. The Commission uses the data to determine the eligibility of the applicants to hold a radio station authorization for specific frequencies.

OMB Control No.: 3060-0554.

Title: Section 87.199, Special Requirements for 406.025 MHz ELTs.

Form No.: N/A.

Type of Review: Extension of a currently approved collection.

Respondents: Individuals or households, business or other for-profit.

Number of Respondents: 500.

Estimated Time Per Response: .084 hours.

Total Annual Burden: 42 hours.

Annual Reporting and Recordkeeping Cost Burden: $0.

Frequency of Response: On occasion reporting requirement, third party disclosure requirement.

Needs and Uses: Section 87.199 requires owners of 406.025 MHz Emergency Locator Transmitters (ELT's) to register information such as name, address, and type of vessel with the National Oceanic and Atmospheric Administration (NOAA). The information would be used by search and rescue personnel to identify the aircraft in distress and to select the proper rescue units and search methods. The information is used by NOAA to maintain a database used to provide information about the owner of an activated ELT of an aircraft in distress. If the collection were not conducted, NOAA would not have access to this information which would increase the time needed to complete a search and rescue operation.

Federal Communications Commission.
William F. Caton,
Acting Secretary.

[FR Doc. 02-8253 Filed 4-4-02; 8:45 am]

BILLING CODE 6712-01-U